ENVIRONMENTAL PROTECTION AGENCY

40 CFR Parts 60 and 61

[AZ and NV-EPA-R09-OAR-2006-1014; FRL-8329-9]

Delegation of New Source Performance Standards and National Emission Standards for Hazardous Air Pollutants for the States of Arizona and Nevada

AGENCY: Environmental Protection Agency (EPA).

ACTION: Proposed rule.

SUMMARY: EPA is proposing to update the Code of Federal Regulations (CFR) tables for delegations to state and local agencies in Region IX of certain New Source Performance Standards (NSPS) and National Emission Standards for Hazardous Air Pollutants (NESHAPs). This document addresses general authorities mentioned in the regulations for NSPS and NESHAPs, proposes to update the delegations tables for Arizona and Nevada, and clarifies those authorities that are retained by EPA. We are taking comments on this proposal and intend to follow with a final action.

DATES: Any comments must arrive by July 23, 2007.

ADDRESSES: Submit comments, identified by docket number EPA-R09-OAR-2006-1014, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia G. Allen, EPA Region IX, (415) 947-4120, allen.cynthia@epa.gov.

SUPPLEMENTARY INFORMATION: The supplementary information is organized in the following order:

What is the purpose of this document?

Who is authorized to delegate these authorities?

What does delegation accomplish?

What authorities are not delegated by EPA?

Does EPA keep some authority?

Administrative Requirements

What is the purpose of this document?

Through this document, EPA is proposing to accomplish the following objectives:

(1) Update the delegations tables in the Code of Federal Regulations, Title 40 (40 CFR), Parts 60 and 61 to provide an accurate listing of the delegated standards for Arizona and Nevada; and

(2) Clarify those authorities that are retained by EPA and not granted to state or local agencies as part of delegation.

These actions are described below.

Today's action proposes to update the delegation tables in 40 CFR Parts 60 and 61, to allow easier access by the public to the status of delegations in Arizona and Nevada jurisdictions. The updated delegation tables would include the delegations approved in response to recent requests, as well as those previously granted. The proposed tables are shown at the end of this document.

Recent requests for delegation that will be incorporated into the updated CFR tables are identified below. Each individual submittal identifies the specific NSPS and NESHAPs for which delegation was requested. All of these requests have already been approved by letter and simply need to be included in the CFR tables.

Agency | Date of request | Date of EPA approval by letter
Nevada Division of Environmental Protection | December 27, 2004; June 22, 2005; August 17, 2005; April 4, 2006; and October 26, 2006 | September 21, 2005; May 12, 2006; and January 12, 2007.
Maricopa County Air Quality Department | April 21, 2006 | May 18, 2006, and June 14, 2006.

Who is authorized to delegate these authorities?

Sections 111(c)(1) and 112(l) of the Clean Air Act, as amended in 1990, authorize the Administrator to delegate his or her authority for implementing and enforcing standards in 40 CFR Parts 60 and 61.

What does delegation accomplish?

Delegation grants a State or local agency the primary authority to implement and enforce Federal standards. All required notifications and reports should be sent to the delegated State or local agency, as appropriate, with a copy to EPA Region IX. Acceptance of delegation constitutes agreement by the State or local agency to follow 40 CFR Parts 60 and 61, and EPA's test methods and continuous monitoring procedures.

What authorities are not delegated by EPA?

In general, EPA does not delegate to State or local agencies the authority to make decisions that are likely to be nationally significant, or alter the stringency of the underlying standards. For a more detailed description of the authorities in 40 CFR Parts 60 and 61 that are retained by EPA, please see the proposed rule published on January 14, 2002 (67 FR 1676).

As additional assurance of national consistency, State and local agencies must send to EPA Region IX Air Division's Enforcement Office Chief a copy of any written decisions made pursuant to the following delegated authorities:

• Applicability determinations that State a source is not subject to a rule or requirement;

• Approvals or determinations of construction, reconstruction, or modification;

• Minor or intermediate site-specific changes to test methods or monitoring requirements; or

• Site-specific changes or waivers of performance testing requirements.

For decisions that require EPA review and approval (for example, major changes to monitoring requirements), EPA intends to make determinations in a timely manner.

In some cases, the standards themselves specify that specific provisions cannot be delegated. State and local agencies should review each individual standard for this information.

Does EPA keep some authority?

EPA retains independent authority to enforce the standards and regulations of 40 CFR parts 60 and 61.

Administrative Requirements

Under Executive Order 12866 (58 FR 51735, October 4, 1993), this proposed action is not a “significant regulatory action” and therefore is not subject to review by the Office of Management and Budget. This proposed action merely proposes to delegate authority to implement existing Federal requirements to state and local agencies and imposes no additional requirements. Accordingly, the Administrator certifies that this proposed rule will not have a significant economic impact on a substantial number of small entities under the Regulatory Flexibility Act (5 U.S.C. 601 et seq.). Because this rule does not impose any additional enforceable duty beyond that required by existing federal law, it does not contain any unfunded mandate or significantly or uniquely affect small governments, as described in the Unfunded Mandates Reform Act of 1995 (Pub. L. 104-4).

This proposed rule also does not have a substantial direct effect on one or more Indian tribes, on the relation between the Federal government and Indian tribes, or on the distribution of power and responsibilities between the Federal government and Indian tribes, as specified by Executive Order 13175 (65 FR 67249, November 9, 2000), nor will it have substantial direct effects on the states, on the relationship between the national government and the States, or on the distribution of power and responsibilities among the various levels of government, as specified in Executive 13132 (64 FR 43255, August 10, 1999), because it would merely approve a State rule implementing a federal standard, and does not alter the relationship or the distribution of power and responsibilities established in the Clean Air Act. This proposed rule also is not subject to Executive Order 13045, “Protection of Children from Environmental Health Risks and Safety Risks” (62 FR 19885, April 23, 1997), because it is not economically significant.

In reviewing delegation requests, EPA's role is to approve state choices, provided that they meet the criteria of the Clean Air Act. In this context, in the absence of a prior existing requirement for the State to use voluntary consensus standards (VCS), EPA has no authority to disapprove a delegation request for failure to use VCS. It would thus be inconsistent with applicable law for EPA, when it reviews a request for delegation, to use VCS in place of a submission that otherwise satisfies the provisions of the Clean Air Act. Thus, the requirements of Section 12(d) of the National Technology Transfer and Advancement Act of 1995 (15 U.S.C. 272 note) do not apply. As required by Section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of this action in accordance with the “Attorney General's Supplemental Guidelines for the Evaluation of Risk and Avoidance of Unanticipated Takings” issued under the executive order. This proposed rule does not impose an information collection burden under the provisions of the Paperwork Reduction Act of 1995 (44 U.S.C. 3501 et seq.).

List of Subjects in 40 CFR Parts 60 and 61

Environmental protection, Administrative practice and procedure, Air pollution control, Hazardous substances, Intergovernmental relations, Reporting and recordkeeping requirements.

Authority: This action is issued under the authority of Sections 111 and 112 of the CAA, as amended (42 U.S.C. 7411 and 7412).

Dated: June 7, 2007.
Deborah Jordan,
Director, Air Division, Region IX.

For the reasons set out in the preamble, title 40, chapter I, of the Code of Federal Regulations is proposed to be amended as follows:

PART 60—[AMENDED]

1. The authority citation for part 60 continues to read as follows:

Authority: 42 U.S.C. 7401 et seq.

Subpart A—General Provisions

2. Section 60.4 is amended by revising paragraphs (d)(1) and (d)(4) to read as follows:

§ 60.4 Address.

* * * * *

(d) * * *

(1) Arizona. The following table identifies delegations as of May 18, 2006:

Delegation Status for New Source Performance Standards for Arizona
Subpart | Air Pollution Control Agency: Arizona DEQ | Air Pollution Control Agency: Maricopa County | Air Pollution Control Agency: Pima County | Air Pollution Control Agency: Pinal County
A General Provisions | X | X | X | X
D Fossil-Fuel Fired Steam Generators Constructed After August 17, 1971 | X | X | X | X
Da Electric Utility Steam Generating Units Constructed After September 18, 1978 | X | X | X | X
Db Industrial-Commercial-Institutional Steam Generating Units | X | X | X | X
Dc Small Industrial Steam Generating Units | X | X | X | X
E Incinerators | X | X | X | X
Ea Municipal Waste Combustors Constructed After December 20, 1989 and On or Before September 20, 1994 | X | X | X | X
Eb Municipal Waste Combustors Constructed After September 20, 1994 | X | X | X |
Ec Hospital/Medical/Infectious Waste Incinerators for Which Construction is Commenced After June 20, 1996 |  | X | X |
F Portland Cement Plants | X | X | X | X
G Nitric Acid Plants | X | X | X | X
H Sulfuric Acid Plant | X | X | X | X
I Hot Mix Asphalt Facilities | X | X | X | X
J Petroleum Refineries | X | X | X | X
K Storage Vessels for Petroleum Liquids for Which Construction, Reconstruction, or Modification Commenced After June 11, 1973, and Prior to May 19, 1978 | X | X | X | X
Ka Storage Vessels for Petroleum Liquids for Which Construction, Reconstruction, or Modification Commenced After May 18, 1978, and Prior to July 23, 1984 | X | X | X | X
Kb Volatile Organic Liquid Storage Vessels (Including Petroleum Liquid Storage Vessels) for Which Construction, Reconstruction, or Modification Commenced After July 23, 1984 | X | X | X | X
L Secondary Lead Smelters | X | X | X | X
M Secondary Brass and Bronze Production Plants | X | X | X | X
N Primary Emissions from Basic Oxygen Process Furnaces for Which Construction is Commenced After June 11, 1973 | X | X | X | X
Na Secondary Emissions from Basic Oxygen Process Steelmaking Facilities for Which Construction is Commenced After January 20, 1983 | X | X | X | X
O Sewage Treatment Plants | X | X | X | X
P Primary Copper Smelters | X | X | X | X
Q Primary Zinc Smelters | X | X | X | X
R Primary Lead Smelters | X | X | X | X
S Primary Aluminum Reduction Plants | X | X | X | X
T Phosphate Fertilizer Industry: Wet Process Phosphoric Acid Plants | X | X | X | X
U Phosphate Fertilizer Industry: Superphosphoric Acid Plants | X | X | X | X
V Phosphate Fertilizer Industry: Diammonium Phosphate Plants | X | X | X | X
W Phosphate Fertilizer Industry: Triple Superphosphate Plants | X | X | X | X
X Phosphate Fertilizer Industry: Granular Triple Superphosphate Storage Facilities | X | X | X | X
Y Coal Preparation Plants | X | X | X | X
Z Ferroalloy Production Facilities | X | X | X | X
AA Steel Plants: Electric Arc Furnaces Constructed After October 21, 1974 and On or Before August 17, 1983 | X | X | X | X
AAa Steel Plants: Electric Arc Furnaces and Argon-Oxygen Decarburization Vessels Constructed After August 7, 1983 | X | X | X | X
BB Kraft pulp Mills | X | X | X | X
CC Glass Manufacturing Plants | X | X | X | X
DD Grain Elevators | X | X | X | X
EE Surface Coating of Metal Furniture | X | X | X | X
FF (Reserved) |  |  |  |
GG Stationary Gas Turbines | X | X | X | X
HH Lime Manufacturing Plants | X | X | X | X
KK Lead-Acid Battery Manufacturing Plants | X | X | X | X
LL Metallic Mineral Processing Plants | X | X | X | X
MM Automobile and Light Duty Trucks Surface Coating Operations | X | X | X | X
NN Phosphate Rock Plants | X | X | X | X
PP Ammonium Sulfate Manufacture | X | X | X | X
QQ Graphic Arts Industry: Publication Rotogravure Printing | X | X | X | X
RR Pressure Sensitive Tape and Label Surface Coating Operations | X | X | X | X
SS Industrial Surface Coating: Large Appliances | X | X | X | X
TT Metal Coil Surface Coating | X | X | X | X
UU Asphalt Processing and Asphalt Roofing Manufacture | X | X | X | X
VV Equipment Leaks of VOC in the Synthetic Organic Chemicals Manufacturing Industry | X | X | X | X
WW Beverage Can Surface Coating Industry | X | X | X | X
XX Bulk Gasoline Terminals | X | X | X | X
AAA New Residential Wool Heaters | X | X | X | X
BBB Rubber Tire Manufacturing Industry | X | X | X | X
CCC (Reserved) |  |  |  |
DDD Volatile Organic Compounds (VOC) Emissions from the Polymer Manufacturing Industry | X | X | X | X
EEE (Reserved) |  |  |  |
FFF Flexible Vinyl and Urethane Coating and Printing | X | X | X | X
GGG Equipment Leaks of VOC in Petroleum Refineries | X | X | X | X
HHH Synthetic Fiber Production Facilities | X | X | X | X
III Volatile Organic Compound (VOC) Emissions From the Synthetic Organic Chemical Manufacturing Industry (SOCMI) Air Oxidation Unit Processes | X | X | X | X
JJJ Petroleum Dry Cleaners | X | X | X | X
KKK Equipment Leaks of VOC From Onshore Natural Gas Processing Plants | X | X | X | X
LLL Onshore Natural Gas Processing: SO2 Emissions | X | X | X | X
MMM (Reserved) |  |  |  |
NNN Volatile Organic Compound (VOC) Emissions From Synthetic Organic Chemical Manufacturing Industry (SOCMI) Distillation Operations | X | X | X | X
OOO Nonmetallic Mineral Processing Plants | X | X | X | X
PPP Wool Fiberglass Insulation Manufacturing Plants | X | X | X | X
QQQ VOC Emissions From Petroleum Refinery Wastewater Systems | X | X | X | X
RRR Volatile Organic Compound Emissions from Synthetic Organic Chemical Manufacturing Industry (SOCMI) Reactor Processes |  | X | X |
SSS Magnetic Tape Coating Facilities | X | X | X | X
TTT Industrial Surface Coating: Surface Coating of Plastic Parts for Business Machines | X | X | X | X
UUU Calciners and Dryers in Mineral Industries | X | X | X |
VVV Polymeric Coating of Supporting Substrates Facilities | X | X | X | X
WWW Municipal Solid Waste Landfills | X | X | X |
AAAA Small Municipal Waste Combustion Units for Which Construction is Commenced After August 30, 1999 or for Which Modification or Reconstruction is Commended After June 6, 2001 | X | X |  |
CCCC Commercial and Industrial Solid Waste Incineration Units for Which Construction Is Commenced After November 30, 1999 or for Which Modification or Reconstruction Is Commenced on or After June 1, 2001 | X | X |  |
EEEE Other Solid Waste Incineration Units for Which Construction is Commenced After December 9, 2004, or for Which Modification or Reconstruction is Commenced on or After June 16, 2006 |  |  |  |
KKKK Stationary Combustion Turbines |  |  |  |
GGGG (Reserved) |  |  |  |

* * * * *

(4) Nevada. The following table identifies delegations as of January 12, 2007:

Delegation Status for New Source Performance Standards for Nevada
Subpart | Air pollution control agency: Nevada DEP | Air pollution control agency: Clark County | Air pollution control agency: Washoe County
A General Provisions | X | X | X
D Fossil-Fuel Fired Steam Generators Constructed After August 17, 1971 | X | X | X
Da Electric Utility Steam Generating Units Constructed After September 18, 1978 | X |  |
Db Industrial-Commercial-Institutional Steam Generating Units | X |  |
Dc Small Industrial Steam Generating Units | X |  |
E Incinerators | X | X | X
Ea Municipal Waste Combustors Constructed After December 20, 1989 and On or Before September 20, 1994 | X |  |
Eb Municipal Waste Combustors Constructed After September 20, 1994 | X |  |
Ec Hospital/Medical/Infectious Waste Incinerators for Which Construction is Commenced After June 20, 1996 | X |  |
F Portland Cement Plants | X | X | X
G Nitric Acid Plants | X |  | X
H Sulfuric Acid Plants | X |  | X
I Hot Mix Asphalt Facilities | X | X | X
J Petroleum Refineries | X |  | X
K Storage Vessels for Petroleum Liquids for Which Construction, Reconstruction, or Modification Commenced After June 11, 1973, and Prior to May 19, 1978 | X | X | X
Ka Storage Vessels for Petroleum Liquids for Which Construction, Reconstruction, or Modification Commenced After May 18, 1978, and Prior to July 23, 1984 | X | X | X
Kb Volatile Organic Liquid Storage Vessels (Including Petroleum Liquid Storage Vessels) for Which Construction, Reconstruction, or Modification Commenced After July 23, 1984 | X |  |
L Secondary Lead Smelters | X | X | X
M Secondary Brass and Bronze Production Plants | X |  | X
N Primary Emissions from Basic Oxygen Process Furnaces for Which Construction is Commenced After June 11, 1973 | X |  | X
Na Secondary Emissions from Basic Oxygen Process Steelmaking Facilities for Which Construction is Commenced After January 20, 1983 | X |  |
O Sewage Treatment Plants | X | X | X
P Primary Copper Smelters | X | X | X
Q Primary Zinc Smelters | X | X | X
R Primary Lead Smelters | X | X | X
S Primary Aluminum Reduction Plants | X |  | X
T Phosphate Fertilizer Industry: Wet Process Phosphoric Acid Plants | X |  | X
U Phosphate Fertilizer Industry: Superphosphoric Acid Plants | X |  | X
V Phosphate Fertilizer Industry: Diammonium Phosphate Plants | X |  | X
W Phosphate Fertilizer Industry: Triple Superphosphate Plants | X |  | X
X Phosphate Fertilizer Industry: Granular Triple Superphosphate Storage Facilities | X |  | X
Y Coal Preparation Plants | X | X | X
Z Ferroalloy Production Facilities | X |  | X
AA Steel Plants: Electric Arc Furnaces Constructed After October 21, 1974 and On or Before August 17, 1983 | X |  | X
AAa Steel Plants: Electric Arc Furnaces and Argon-Oxygen Decarburization Vessels Constructed After August 7, 1983 | X |  |
BB Kraft pulp Mills | X |  | X
CC Glass Manufacturing Plants | X |  | X
DD Grain Elevators | X | X | X
EE Surface Coating of Metal Furniture | X | X | X
FF (Reserved) |  |  |
GG Stationary Gas Turbines | X | X | X
HH Lime Manufacturing Plants | X | X | X
KK Lead-Acid Battery Manufacturing Plants | X | X | X
LL Metallic Mineral Processing Plants | X | X | X
MM Automobile and Light Duty Trucks Surface Coating Operations | X | X | X
NN Phosphate Rock Plants | X | X | X
PP Ammonium Sulfate Manufacture | X |  | X
QQ Graphic Arts Industry: Publication Rotogravure Printing | X | X | X
RR Pressure Sensitive Tape and Label Surface Coating Operations | X |  | X
SS Industrial Surface Coating: Large Appliances | X | X | X
TT Metal Coil Surface Coating | X | X | X
UU Asphalt Processing and Asphalt Roofing Manufacture | X | X | X
VV Equipment Leaks of VOC in the Synthetic Organic Chemicals Manufacturing Industry | X | X | X
WW Beverage Can Surface Coating Industry | X |  | X
XX Bulk Gasoline Terminals | X |  | X
AAA New Residential Wool Heaters |  |  |
BBB Rubber Tire Manufacturing Industry | X |  |
CCC (Reserved) |  |  |
DDD Volatile Organic Compounds (VOC) Emissions from the Polymer Manufacturing Industry | X |  |
EEE (Reserved) |  |  |
FFF Flexible Vinyl and Urethane Coating and Printing | X |  | X
GGG Equipment Leaks of VOC in Petroleum Refineries | X |  | X
HHH Synthetic Fiber Production Facilities | X |  | X
III Volatile Organic Compound (VOC) Emissions From the Synthetic Organic Chemical Manufacturing Industry (SOCMI) Air Oxidation Unit Processes | X |  |
JJJ Petroleum Dry Cleaners | X | X | X
KKK Equipment Leaks of VOC From Onshore Natural Gas Processing Plants | X |  |
LLL Onshore Natural Gas Processing: SO2 Emissions | X |  |
MMM (Reserved) |  |  |
NNN Volatile Organic Compound (VOC) Emissions From Synthetic Organic Chemical Manufacturing Industry (SOCMI) Distillation Operations | X |  |
OOO Nonmetallic Mineral Processing Plants | X |  | X
PPP Wool Fiberglass Insulation Manufacturing Plants | X |  | X
QQQ VOC Emissions From Petroleum Refinery Wastewater Systems | X |  |
RRR Volatile Organic Compound Emissions from Synthetic Organic Chemical Manufacturing Industry (SOCMI) Reactor Processes | X |  |
SSS Magnetic Tape Coating Facilities | X |  |
TTT Industrial Surface Coating: Surface Coating of Plastic Parts for Business Machines | X |  |
UUU Calciners and Dryers in Mineral Industries | X |  |
VVV Polymeric Coating of Supporting Substrates Facilities | X |  |
WWW Municipal Solid Waste Landfills | X |  |
AAAA Small Municipal Waste Combustion Units for Which Construction is Commenced After August 30, 1999 or for Which Modification or Reconstruction is Commended After June 6, 2001 | X |  |
CCCC Commercial and Industrial Solid Waste Incineration Units for Which Construction Is Commenced After November 30, 1999 or for Which Modification or Reconstruction Is Commenced on or After June 1, 2001 | X |  |
EEEE Other Solid Waste Incineration Units for Which Construction is Commenced After December 9, 2004, or for Which Modification or Reconstruction is Commenced on or After June 16, 2006 | X |  |
KKKK Stationary Combustion Turbines | X |  |
GGGG (Reserved) |  |  |

* * * * *

PART 61—[AMENDED]

1. The authority citation for part 61 continues to read as follows:

Authority: 42 U.S.C. 7401 et seq.

Subpart A—General Provisions

2. Section 61.04 is amended by revising paragraphs (c)(9)(i) and (c)(9)(iv) to read as follows:

§ 61.04 Address.

* * * * *

(c) * * *

(9) * * *

(i) Arizona. The following table identifies delegations as of June 14, 2006:

Delegation Status for National Emissions Standards for Hazardous Air Pollutants for Arizona
Subpart | Air Pollution Control Agency: Arizona DEQ | Air Pollution Control Agency: Maricopa County | Air Pollution Control Agency: Pima County | Air Pollution Control Agency: Pinal County
A General Provisions | X | X | X | X
B Radon Emissions From Underground Uranium |  |  |  |
C Beryllium | X | X | X | X
D Beryllium Rocket Motor Firing | X | X | X | X
E Mercury | X | X | X | X
F Vinyl Chloride | X | X | X | X
G (Reserved) |  |  |  |
H Emissions of Radionuclides Other Than Radon From Department of Energy Facilities |  |  |  |
I Radionuclide Emissions From Federal Facilities Other Than Nuclear Regulatory Commission Licensees and Not Covered by Subpart H |  |  |  |
J Equipment Leaks (Fugitive Emission Sources) of Benzene | X | X | X | X
K Radionuclide Emissions From Elemental Phosphorus Plants |  |  |  |
L Benzene Emissions from Coke By-Product Recovery Plants | X | X | X | X
M Asbestos | X | X | X | X
N Inorganic Arsenic Emissions From Glass Manufacturing Plants | X | X |  | X
O Inorganic Arsenic Emissions From Primary Copper Smelters | X | X |  | X
P Inorganic Arsenic Emissions From Arsenic Trioxide and Metallic Arsenic Production Facilities | X | X |  |
Q Radon Emissions From Department of Energy Facilities |  |  |  |
R Radon Emissions From Phosphogypsum Stacks |  |  |  |
S (Reserved) |  |  |  |
T Radon Emissions From the Disposal of Uranium Mill Tailings |  |  |  |
U (Reserved) |  |  |  |
V Equipment Leaks (Fugitive Emission Sources) | X | X | X | X
W Radon Emissions From Operating Mill Tailings |  |  |  |
X (Reserved) |  |  |  |
Y Benzene Emissions From Benzene Storage Vessels | X | X | X | X
Z-AA (Reserved) |  |  |  |
BB Benzene Emissions From Benzene Transfer Operations | X | X | X | X
CC-EE (Reserved) |  |  |  |
FF Benzene Waste Operations | X | X | X | X

* * * * *

(iv) Nevada. The following table identifies delegations as of September 21, 2005:

Delegation Status for National Emissions Standards for Hazardous Air Pollutants for Nevada
Subpart | Air Pollution Control Agency: Nevada DEP | Air Pollution Control Agency: Clark County | Air Pollution Control Agency: Washoe County
A General Provisions | X | X |
B Radon Emissions From Underground Uranium |  |  |
C Beryllium | X | X | X
D Beryllium Rocket Motor Firing | X | X |
E Mercury | X | X | X
F Vinyl Chloride | X | X |
G (Reserved) |  |  |
H Emissions of Radionuclides Other Than Radon From Department of Energy Facilities | X |  |
I Radionuclide Emissions From Federal Facilities Other Than Nuclear Regulatory Commission Licensees and Not Covered by Subpart H | X |  |
J Equipment Leaks (Fugitive Emission Sources) of Benzene | X |  |
K Radionuclide Emissions From Elemental Phosphorus Plants | X |  |
L Benzene Emissions from Coke By-Product Recovery Plants | X |  |
M Asbestos |  | X | X
N Inorganic Arsenic Emissions From Glass Manufacturing Plants | X |  |
O Inorganic Arsenic Emissions From Primary Copper Smelters | X |  |
P Inorganic Arsenic Emissions From Arsenic Trioxide and Metallic Arsenic Production Facilities | X |  |
Q Radon Emissions From Department of Energy Facilities |  |  |
R Radon Emissions From Phosphogypsum Stacks |  |  |
S (Reserved) |  |  |
T Radon Emissions From the Disposal of Uranium Mill Tailings |  |  |
U (Reserved) |  |  |
V Equipment Leaks (Fugitive Emission Sources) | X |  |
W Radon Emissions From Operating Mill Tailings |  |  |
X (Reserved) |  |  |
Y Benzene Emissions from Benzene Storage Vessels | X |  |
Z-AA (Reserved) |  |  |
BB Benzene Emissions From Benzene Transfer Operations | X |  |
CC-EE (Reserved) |  |  |
FF Benzene Waste Operations | X |  |

* * * * *

[FR Doc. E7-12044 Filed 6-20-07; 8:45 am]

BILLING CODE 6560-50-P